INTERNATIONAL TRADE COMMISSION

[Investigation No. 337-TA-716]

In the Matter of Certain Large Scale Integrated Circuit Semiconductor Chips and Products Containing the Same; Notice of a Commission Determination Not To Review an Initial Determination Terminating the Investigation; Termination of the Investigation

AGENCY: U.S. International Trade Commission.

ACTION: Notice.

SUMMARY: Notice is hereby given that the U.S. International Trade Commission has determined not to review an initial determination (“ID”) (Order No. 35) of the presiding administrative law judge (“ALJ”) terminating the above-captioned investigation based on a settlement agreement.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 5, 2010, based on a complaint filed by Panasonic Corporation of Japan. 75 FR 24742-43. The complaint alleges violations of section 337 of the Tariff Act of 1930, as amended, 19 U.S.C. 1337, in the importation into the United States, the sale for importation, and the sale within the United States after importation of certain large scale integrated circuit semiconductor chips and products containing same by reason of infringement of certain claims of U.S. Patent Nos. 5,933,364 and 6,834,336. The complaint further alleges the existence of a domestic industry. The Commission's notice of investigation named several respondents including the following: Freescale Semiconductor Xiqing Integrated Semiconductor Manufacturing Site (“Freescale Xiqing”) of China; Freescale Semiconductor Innovation Center (“Freescale Innovation”) of China; Freescale Semiconductor Pte. Ltd. of Singapore; Premier Farnell Corporation d/b/a Newark (“Newark”) of Independence, Ohio; Freescale Semiconductor, Inc. of Austin, Texas; Freescale Semiconductor Japan Ltd. of Japan; Freescale Semiconductor Malaysia Sdn. Bhd. of Malaysia; Freescale Semiconductor Pte. Ltd. of Singapore; Mouser Electronics, Inc. of Mansfield, Texas; and Motorola Inc. of Schaumburg, Illinois.

On August 16, 2010, the Commission issued notice of its determination not to review the ALJ's ID granting complainant's unopposed motion to amend the complaint and notice of investigation. The notice of investigation was amended to substitute Freescale Qiangxin (Tianjin) IC Design Co., Ltd. of China; Freescale Semiconductor (China) Limited of China; and Newark Electronics Corporation and Newark Corporation of Chicago, Illinois for respondents Freescale Xiqing, Freescale Innovation, and Newark, respectively. 75 FR 51843 (August 23, 2010).

On February 11 and 16, 2011, respectively, complainant and respondents filed a joint motion, and a supplemental joint motion, to terminate the investigation as to all respondents based on a settlement agreement. The Commission investigative attorney filed a response in support of the motion.

The ALJ issued the subject ID on February 28, 2011, granting the motion for termination. He found that the motion for termination satisfies Commission rule 210.21(b). He further found, pursuant to Commission rule 210.50(b)(2), that termination of this investigation by settlement agreement is in the public interest. No party petitioned for review of the ID. The Commission has determined not to review the ID, and the investigation is terminated.

The authority for the Commission's determination is contained in section 337 of the Tariff Act of 1930, as amended, 19 U.S.C. 1337, and in sections 210.21 and 210.42(h) of the Commission's Rules of Practice and Procedure, 19 CFR 210.21, 210.42(h).

By order of the Commission.
Issued: March 11, 2011.
William R. Bishop,
Acting Secretary to the Commission.

[FR Doc. 2011-6141 Filed 3-16-11; 8:45 am]

BILLING CODE P